GENERAL SERVICES ADMINISTRATION

[Notice-PBS-2018-05; Docket No. 2018-0002; Sequence No. 17]

Redesignation of Federal Buildings

AGENCY: Public Buildings Service (PBS), General Services Administration.

ACTION: Notice of a bulletin.

SUMMARY: The attached Federal Management Regulation bulletin announces the redesignation of two Federal buildings.

DATES: This bulletin is applicable October 2, 2018. However, the building redesignations announced by this bulletin will remain in effect until canceled or superseded.

FOR FURTHER INFORMATION CONTACT: General Services Administration, Public Buildings Service, Attn: Ms. Joanna Rosato, Regional Commissioner, 100 S Independence Mall West, Philadelphia, PA 19016, email joanna.rosato@gsa.gov, or telephone 215-446-4640.

SUPPLEMENTARY INFORMATION: This bulletin announces the redesignation of two Federal buildings. Public Law 107-217, 116 STAT. 1143, dated August 21, 2002, permits the redesignation of the “Computer Center Building,” and the “Utility Building,” as the “Perimeter East Building,” and the “Perimeter East Utility Building,” respectively.

Dated: September 26, 2018.
Emily Murphy,
Administrator of General Services.

GENERAL SERVICES ADMINISTRATION

REDESIGNATION OF FEDERAL BUILDING

PBS-2018-05

TO: Heads of Federal Agencies

SUBJECT: Redesignation of Federal Buildings

1. What is the purpose of this bulletin? This bulletin announces the redesignation of two Federal buildings.

2. When does this bulletin expire? The building redesignations announced by this bulletin will remain in effect until canceled or superseded.

3. Redesignation. The former and new names of the redesignated buildings are as follows:

Former name | New name
Computer Center Building, 6401 Security Boulevard, Woodlawn, MD 21235 | Perimeter East Building, 6401 Security Boulevard, Woodlawn, MD 21235.

Former name | New name
Utility Building, 6401 Security Boulevard, Woodlawn, MD 21235 | Perimeter East Utility Building, 6401 Security Boulevard, Woodlawn, MD 21235.

4. Who should we contact for further information regarding redesignation of these Federal buildings? U.S. General Services Administration, Public Buildings Service, Attn: Ms. Joanna Rosato, Regional Commissioner, 100 S. Independence Mall West, Philadelphia, PA, 19016, email joanna.rosato@gsa.gov, or telephone 215-446-4640.

Dated: September 26, 2018.

Emily Murphy, Administrator of General Services.

[FR Doc. 2018-21360 Filed 10-1-18; 8:45 am]

BILLING CODE 6820-A6-P